DEPARTMENT OF HEALTH AND HUMAN SERVICES

Food and Drug Administration

[Docket No. FDA-2016-N-2526]

Determination That AQUAMEPHYTON (Phytonadione) Injectable and Other Drug Products Were Not Withdrawn From Sale for Reasons of Safety or Effectiveness

AGENCY: Food and Drug Administration, HHS.

ACTION: Notice.

SUMMARY: The Food and Drug Administration (FDA or Agency) has determined that the drug products listed in this document were not withdrawn from sale for reasons of safety or effectiveness. This determination means that FDA will not begin procedures to withdraw approval of abbreviated new drug applications (ANDAs) that refer to these drug products, and it will allow FDA to continue to approve ANDAs that refer to the products as long as they meet relevant legal and regulatory requirements.

FOR FURTHER INFORMATION CONTACT: Stacy Kane, Center for Drug Evaluation and Research, Food and Drug Administration, 10903 New Hampshire Ave., Bldg. 51, Rm. 6207, Silver Spring, MD 20993-0002, 301-796-8363, Stacy.Kane@fda.hhs.gov.

SUPPLEMENTARY INFORMATION: In 1984, Congress enacted the Drug Price Competition and Patent Term Restoration Act of 1984 (Pub. L. 98-417) (the 1984 amendments), which authorized the approval of duplicate versions of drug products approved under an ANDA procedure. ANDA applicants must, with certain exceptions, show that the drug for which they are seeking approval contains the same active ingredient in the same strength and dosage form as the “listed drug,” which is a version of the drug that was previously approved. ANDA applicants do not have to repeat the extensive clinical testing otherwise necessary to gain approval of a new drug application (NDA).

The 1984 amendments include what is now section 505(j)(7) of the Federal Food, Drug, and Cosmetic Act (21 U.S.C. 355(j)(7)), which requires FDA to publish a list of all approved drugs. FDA publishes this list as part of the “Approved Drug Products With Therapeutic Equivalence Evaluations,” which is generally known as the “Orange Book.” Under FDA regulations, a drug is removed from the list if the Agency withdraws or suspends approval of the drug's NDA or ANDA for reasons of safety or effectiveness, or if FDA determines that the listed drug was withdrawn from sale for reasons of safety or effectiveness (21 CFR 314.162).

Under § 314.161(a) (21 CFR 314.161(a)), the Agency must determine whether a listed drug was withdrawn from sale for reasons of safety or effectiveness: (1) Before an ANDA that refers to that listed drug may be approved, (2) whenever a listed drug is voluntarily withdrawn from sale and ANDAs that refer to the listed drug have been approved, and (3) when a person petitions for such a determination under 21 CFR 10.25(a) and 10.30. Section 314.161(d) provides that if FDA determines that a listed drug was withdrawn from sale for safety or effectiveness reasons, the Agency will initiate proceedings that could result in the withdrawal of approval of the ANDAs that refer to the listed drug.

FDA has become aware that the drug products listed in the table in this document are no longer being marketed.

Application No. | Drug name | Active ingredient(s) | Strength(s) | Dosage form/route | Applicant
NDA 012223 | AQUAMEPHYTON | Phytonadione | 10 milligram (mg)/milliliter (mL); 1 mg/0.5 mL | Injectable; Injection | Teligent Pharma Inc.
NDA 016087 | VALIUM | Diazepam | 5 mg/mL | Injectable; Injection | Roche.
NDA 017090 | TOFRANIL-PM | Imipramine Pamoate | Equivalent to (EQ) 75 mg HCl; EQ 100 mg HCl; EQ 125 mg HCl; EQ 150 mg HCl | Capsule; Oral | Mallinckrodt Pharmaceuticals.
NDA 017558 | ROBINUL | Glycopyrrolate | 0.2 mg/mL | Injectable; Injection | Eurohealth International Sarl.
NDA 017911 | CLINORIL | Sulindac | 200 mg | Tablet; Oral | Merck.
NDA 017962 | PARLODEL | Bromocriptine Mesylate | EQ 5 mg base | Capsule; Oral | US Pharmaceuticals Holdings I LLC.
NDA 018579 | FUROSEMIDE | Furosemide | 10 mg/mL | Injectable; Injection | Luitpold Pharmaceuticals, Inc.
NDA 018687 | NORMODYNE | Labetalol Hydrochloride | 100 mg; 200 mg; 300 mg; 400 mg | Tablet; Oral | Schering-Plough Corp.
NDA 018731 | BUSPAR | Buspirone Hydrochloride | 5 mg | Tablet; Oral | Bristol-Myers Squibb.
NDA 018776 | NORCURON | Vecuronium Bromide | 10 mg/vial; 20 mg/vial | Injectable; for Injection | Organon USA Inc.
NDA 019773 | VENTOLIN | Albuterol Sulfate | EQ 0.083% base | Solution; Inhalation | GlaxoSmithKline.
NDA 019810 | PRILOSEC | Omeprazole | 10 mg; 20 mg; 40 mg | Capsule, Delayed-Release Pellets; Oral | AstraZeneca Pharmaceuticals LP.
NDA 020059 | ADENOSCAN | Adenosine | 60 mg/20 mL (3 mg/mL); 90 mg/30 mL (3 mg/mL) | Solution; I.V. Infusion | Astellas Pharma US, Inc.
NDA 020799 | FLOXIN OTIC | Ofloxacin | 0.3% | Solution/Drops; Otic | Daiichi-Sankyo.
NDA 021045 | PLAN B | Levonorgestrel | 0.75 mg | Tablet; Oral | Teva Branded Pharm.
NDA 021214 | RESCULA | Unoprostone Isopropyl | 0.15% | Solution/Drops; Ophthalmic | Sucampo Pharmaceuticals, Inc.
NDA 050459 | AMOXIL | Amoxicillin | 250 mg; 500 mg | Capsule; Oral | GlaxoSmithKline.
NDA 050460 | AMOXIL | Amoxicillin | 125 mg/5mL; 50 mg/mL; 250 mg/5 mL | for Suspension; Oral | GlaxoSmithKline.
NDA 050460 | LAROTID | Amoxicillin | 50 mg/mL | for Suspension; Oral | GlaxoSmithKline.
ANDA 072652 | ALBUTEROL SULFATE | Albuterol Sulfate | EQ 0.083% base | Solution; Inhalation | Mylan Specialty L.P.
ANDA 075117 | ORAPRED | Prednisolone Sodium Phosphate | EQ 15 mg base/5 mL | Solution; Oral | Concordia Pharmaceuticals Inc.
ANDA 075385 | BUSPIRONE HYDROCHLORIDE | Buspirone Hydrochloride | 5 mg; 10 mg; 15 mg | Tablet; Oral | Teva Pharmaceuticals USA, Inc.
ANDA 078665 | LEVONORGESTREL | Levonorgestrel | 0.75 mg | Tablet; Oral | Watson Labs.
ANDA 087811 | PHRENILIN | Acetaminophen; Butalbital | 325 mg; 50 mg | Tablet; Oral | Valeant Pharmaceuticals International Inc.
ANDA 088825 | BUTALBITAL, ACETAMINOPHEN AND CAFFEINE | Acetaminophen; Butalbital; Caffeine | 325 mg; 50 mg; 40 mg | Capsule; Oral | Gilbert Labs.

FDA has reviewed its records and, under § 314.161, has determined that the drug products listed in this document were not withdrawn from sale for reasons of safety or effectiveness. Accordingly, the Agency will continue to list the drug products listed in this document in the “Discontinued Drug Product List” section of the Orange Book. The “Discontinued Drug Product List” identifies, among other items, drug products that have been discontinued from marketing for reasons other than safety or effectiveness.

Approved ANDAs that refer to the NDAs and ANDAs listed in this document are unaffected by the discontinued marketing of the products subject to those NDAs and ANDAs. Additional ANDAs that refer to these products may also be approved by the Agency if they comply with relevant legal and regulatory requirements. If FDA determines that labeling for these drug products should be revised to meet current standards, the Agency will advise ANDA applicants to submit such labeling.

Dated: August 30, 2016.
Leslie Kux,
Associate Commissioner for Policy.

[FR Doc. 2016-21227 Filed 9-2-16; 8:45 am]

BILLING CODE 4164-01-P